DEPARTMENT OF COMMERCE

International Trade Administration

[A-533-810]

Stainless Steel Bar From India: Extension of Time Limit for the Final Results of the 2007-2008 Antidumping Duty Administrative Review

AGENCY: Import Administration, International Trade Administration, Department of Commerce.

EFFECTIVE DATE: April 27, 2009.

FOR FURTHER INFORMATION CONTACT: Scott Holland, AD/CVD Operations, Office 1, Import Administration, International Trade Administration, U.S. Department of Commerce, 14th Street and Constitution Avenue, NW, Washington, DC 20230; telephone (202) 482-1279.

SUPPLEMENTARY INFORMATION:

Background

On February 21, 1995, the Department of Commerce (“Department”) published the antidumping duty order on stainless steel bar (“SSB”) from India. See Antidumping Duty Orders: Stainless Steel Bar from Brazil, India and Japan, 60 FR 9661 (February 21, 1995). On March 31, 2008, in accordance with section 751(a) of the Tariff Act of 1930, as amended (“the Act”), we initiated an administrative review of the order for two companies. See Initiation of Antidumping and Countervailing Duty Administrative Reviews, Request for Revocation in Part, and Deferral of Administrative Review, 73 FR 16837 (March 31, 2008). On March 6, 2009, the Department published its preliminary results of the 2007-2008 antidumping duty administrative review. See Stainless Steel Bar From India: Preliminary Results of Antidumping Duty Administrative Review, 74 FR 9787 (March 6, 2009). The final results for this review are currently due no later than July 6, 2009.

Extension of Time Limit of Final Results

Section 751(a)(3)(A) of the Act requires the Department to issue final results within 120 days after the date on which the preliminary results are published. However, if it is not practicable to complete the review within this time period, section 751(a)(3)(A) of the Act allows the Department to extend the time period to a maximum of 180 days.

Completion of the final results of the administrative review within the 120-day period in this case is not practicable because, following the preliminary results, the Department issued a comprehensive supplemental questionnaire concerning an affiliate of respondent Venus Wire Industries Pvt. Ltd. (“Venus”). The Department requires additional time to analyze Venus' supplemental questionnaire responses and the comments from the domestic interested parties. In addition, the Department has received a request to extend the final results from domestic interested parties.

Because it is not practicable to complete this review within the time specified under the Act, we are fully extending the time period for issuing the final results of the administrative review in accordance with section 751(a)(3)(A) of the Act. Therefore, the final results are now due no later than September 2, 2009.

This notice is published pursuant to sections 751(a) and 777(i) of the Act.

Dated: April 21, 2009.
John M. Andersen,
Acting Deputy Assistant Secretary for Antidumping and Countervailing Duty Operations.

[FR Doc. E9-9538 Filed 4-24-07; 8:45 am]

BILLING CODE 3510-DS-S